FEDERAL COMMUNICATIONS COMMISSION

47 CFR Part 0

Commission Organization

CFR Correction

In Title 47 of the Code of Federal Regulations, parts 0 to 59, revised as of October 1, 2018, on page 7, in part 0, the authority citation is corrected to read as follows:

Authority: 47 U.S.C. 155, 225, unless otherwise noted.

And on the same page, in the same part, the authority citation for Subpart A is reinstated to read as follows:

Authority: Secs. 5, 48 Stat. 1068, as amended; 47 U.S.C. 155.

[FR Doc. 2019-22249 Filed 10-8-19; 8:45 am]

BILLING CODE 1301-00-D